ENVIRONMENTAL PROTECTION AGENCY

[EPA-HQ-OPP-2005-0123; FRL-8862-5]

Methyl Bromide; Notice of Receipt of Requests To Voluntarily Amend Registrations To Terminate Certain Soil Uses

AGENCY: Environmental Protection Agency (EPA).

ACTION: Notice.

SUMMARY: In accordance with section 6(f)(1) of the Federal Insecticide, Fungicide, and Rodenticide Act (FIFRA), as amended, EPA is issuing a notice of receipt of requests by the registrants to voluntarily amend their methyl bromide product registrations to terminate or delete one or more soil uses. The requests would delete all methyl bromide soil uses that do not meet the definition of a “critical use,” a “quarantine application,” or a “pre-shipment application” with the exception of the following uses: (1) Soils to be planted with caneberries (use allowed until December 31, 2014), fresh market tomatoes grown in California (use allowed until December 31, 2012), fresh market peppers grown in California (use allowed until December 31, 2012), Vidalia onions grown in Georgia (use allowed until December 31, 2012), ginger grown in Hawaii (use allowed until December 31, 2012); (2) soils on golf courses and athletic/recreational fields for resurfacing/replanting of turf (use allowed until December 31, 2013), and (3) tobacco seedling trays (use allowed until December 31, 2014). These requests would not affect post-harvest fumigant products. In addition, the Agency received a request from Soil Chemicals Corporation dba Cardinal Professional Products to voluntarily amend methyl bromide product registration 8536-12 to terminate or delete all soil uses. This request does not cover the post harvest uses on the label. The requests would not terminate the last methyl bromide products registered for use in the United States. EPA intends to grant these requests at the close of the comment period for this announcement unless the Agency receives substantive comments within the comment period that would merit its further review of the requests, or unless the registrants withdraw their requests. If these requests are granted, any sale, distribution, or use of products listed in this notice will be permitted after the uses are deleted only if such sale, distribution, or use is consistent with the terms as described in the final order.

DATES: Comments must be received on or before March 11, 2011.

ADDRESSES: Submit your comments, identified by docket identification (ID) number EPA-HQ-OPP-2005-0123, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2005-0123. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Susan Bartow, Pesticide Re-evaluation Division (7508P), Office of Pesticide Programs, Environmental Protection Agency, 1200 Pennsylvania Ave., NW., Washington, DC 20460-0001; telephone number: (703) 603-0065; fax number: (703) 308-8090; e-mail address: bartow.susan@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests To Amend Registrations To Delete Uses

This notice announces receipt by EPA of requests from registrants (ICL-IP America, Inc., Great Lakes Chemical Corporation, Shadow Mountain Products Corporation, Hendrix and Dail, Inc., Soil Chemicals Corporation dba Cardinal Professional Products, and Trical, Inc.) to delete certain uses of methyl bromide product registrations. Methyl bromide is a broad-spectrum fumigant chemical that can be used as an acaricide, antimicrobial, fungicide, herbicide, insecticide, nematicide, and vertebrate control agent. It is used most prevalently as a soil fumigant, but is also used as a post harvest treatment of commodities. In letters dated August 24, 2010, August 25, 2010, and August 27, 2010, ICL-IP America, Inc., Great Lakes Chemical Corporation, Shadow Mountain Products Corporation, Hendrix and Dail, Inc., Soil Chemicals Corporation dba Cardinal Professional Products, and Trical, Inc. requested EPA to amend to delete certain uses of pesticide product registrations identified in Table 1A of Unit III. Specifically, the requests would delete all methyl bromide soil uses that do not meet the definition of a “critical use,” a “quarantine application,” or a “pre-shipment application” (CUE/QPS), as those terms are defined under EPA's regulations at (40 CFR part 82). Subpart A, with the exception of the following uses: (1) Soils to be planted with caneberries, fresh market tomatoes grown in California, fresh market peppers grown in California, Vidalia onions grown in Georgia, ginger grown in Hawaii; (2) soils on golf courses and athletic/recreational fields for resurfacing/replanting of turf, and (3) tobacco seedling trays. These requests are in accordance with a signed agreement dated August 20, 2010 between the Environmental Protection Agency and the registrants of certain pesticide products containing methyl bromide. Also in accordance with the signed agreement the registrants request (1) deletion of the non-CUE/QPS uses of methyl bromide on soil used to grow fresh market tomatoes in California, fresh market peppers in California, Vidalia onion in Georgia, and ginger in Hawaii effective December 31, 2012; (2) deletion of the non-CUE/QPS uses of methyl bromide on soil for resurfacing/replanting turf or sod on golf courses and athletic/recreational fields effective December 31, 2013; and (3) deletion of the non-CUE/QPS uses of methyl bromide on soil to be planted with caneberries and for application to tobacco seedling trays effective December 31, 2014. These requests would not affect post-harvest fumigant products. The requests would not terminate the last methyl bromide products registered for use in the United States.

This notice also announces receipt by EPA of a request from Soil Chemicals Corporation dba Cardinal Professional Products to delete soil uses from methyl bromide product registration 8536-12. In a letter dated December 7, 2010, Soil Chemicals Corporation dba Cardinal Professional Products requested EPA to amend to delete certain uses of pesticide product registration 8536-12 identified in Table 1B of Unit III. Specifically, the request would delete all methyl bromide soil fumigation uses. This request does not cover the post harvest uses on the label. The request would not terminate the last methyl bromide products registered for use in the United States.

III. What action is the agency taking?

This notice announces receipt by EPA of requests from registrants to delete certain uses of methyl bromide product registrations. The affected products and the registrants making the requests are identified in Tables 1A, 1B, and 2 of this unit.

Unless a request is withdrawn by the registrant or if the Agency determines that there are substantive comments that warrant further review of this request, EPA intends to issue an order amending the affected registrations.

Table 1A—Methyl Bromide Product Registrations With Pending Requests for Amendment
Registration No. | Product Name | Company
5785-19 | Terr-O-Gas® 70 | Great Lakes Chemical Corporation.
5785-22 | Terr-O-Gas® 98 | Great Lakes Chemical Corporation.
5785-23 | Terr-O-Gas® 45 | Great Lakes Chemical Corporation.
5785-24 | Terr-O-Gas® 67 | Great Lakes Chemical Corporation.
5785-25 | Terr-O-Gas® 33 | Great Lakes Chemical Corporation.
5785-28 | Terr-O-Gas® 57 | Great Lakes Chemical Corporation.
5785-40 | Terr-O-Gas® 75 | Great Lakes Chemical Corporation.
5785-42 | Brom-O-Gas® 2% | Great Lakes Chemical Corporation.
5785-47 | Terr-O-Gas® 80 | Great Lakes Chemical Corporation.
5785-48 | Terr-O-Gas® 50 | Great Lakes Chemical Corporation.
8536-05 | Pic-Brom 33 | Soil Chemicals Corporation dba Cardinal Professional Products.
8536-06 | Pic-Brom 55 | Soil Chemicals Corporation dba Cardinal Professional Products.
8536-07 | Pic-Brom 43 | Soil Chemicals Corporation dba Cardinal Professional Products.
8536-09 | Pic-Brom 50 | Soil Chemicals Corporation dba Cardinal Professional Products.
8536-11 | Pic-Brom 25 | Soil Chemicals Corporation dba Cardinal Professional Products.
8536-19 | Methyl Bromide 98% | Soil Chemicals Corporation dba Cardinal Professional Products.
8536-20 | Pic-Brom 67 | Soil Chemicals Corporation dba Cardinal Professional Products.
8622-12 | 98-2 Soil Fumigant | ICL-IP America, Incorporated.
8622-13 | 67-33 Preplant Soil Fumigant | ICL-IP America, Incorporated.
8622-14 | 70-30 Preplant Soil Fumigant | ICL-IP America, Incorporated.
8622-15 | 75-25 Preplant Soil Fumigant | ICL-IP America, Incorporated.
8622-17 | Metabrom 99 | ICL-IP America, Incorporated.
8622-39 | 50-50 Preplant Soil Fumigant | ICL-IP America, Incorporated.
8622-40 | 57-43 Preplant Soil Fumigant | ICL-IP America, Incorporated.
8622-44 | 80-20 Preplant Soil Fumigant | ICL-IP America, Incorporated.
8853-1 | MBC Soil Fumigant | Hendrix and Dail, Incorporated.
8853-2 | MBC Concentrate Soil Fumigant | Hendrix and Dail, Incorporated.
8853-3 | MBC-33 Soil Fumigant | Hendrix and Dail, Incorporated.
11220-04 | Tri-Con 57/43 | Trical, Incorporated.
11220-07 | Tri-Con 67/33 | Trical, Incorporated.
11220-08 | Tri-Con 75/25 | Trical, Incorporated.
11220-10 | Tri-Con 50/50 | Trical, Incorporated.
11220-11 | Tri-Con 45/55 | Trical, Incorporated.
11220-17 | Methyl Bromide 89.5% | Trical, Incorporated.
58266-1 | Tri-Con 80/20 Preplant Soil Fumigant | Shadow Mountain Products Corporation.

Table 1B—Methyl Bromide Product Registration With Pending Requests for Amendment
Registration No. | Product name | Company | Uses to be deleted
8536-12 | Methyl Bromide 99.5% | Soil Chemicals Corporation dba Cardinal Professional Products | Soil fumigation uses.

Table 2 of this unit includes the names and addresses of record for the registrants of the products listed in Tables 1A and 1B of this unit, in sequence by EPA company number. This number corresponds to the first part of the EPA registration numbers of the products listed in Tables 1A and 1B of this unit.

Table 2—Registrants Requesting Voluntary Amendments
EPA Company No. | Company name and address
5785 | Great Lakes Chemical Corporation, P.O. Box 2200, West Lafayette, IN 47996-2200.
8536 | Soil Chemicals Corporation dba Cardinal Professional Products, P.O. Box 782, Hollister, CA 95024-0782.
8622 | ICL-IP America, Incorporated, 95 MacCorkle Avenue, SW., South Charleston, WV 25303.
8853 | Hendrix and Dail, Incorporated, P.O. Box 648, Greenville, NC 27835-0648.
11220 | Trical, Incorporated, P.O. Box 1327, Hollister, CA 95024-1327.
58266 | Shadow Mountain Products Corporation, P.O. Box 1327, Hollister, CA 95024-1327.

IV. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The methyl bromide registrants have requested that EPA waive the 180-day comment period. Accordingly, EPA will provide a 30-day comment period on the proposed requests.

V. Procedures for Withdrawal of Requests

Registrants who choose to withdraw a request for product cancellation or use deletion should submit the withdrawal in writing to the person listed under FOR FURTHER INFORMATION CONTACT. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for amendments to delete uses are granted, the Agency intends to publish the cancellation order, including the effective date and conditions for the disposition of existing stocks, in the Federal Register.

A. For All Products Listed in Table 1A in Unit III

In any order issued in response to these requests for amendments to delete uses, EPA proposes to include the following provisions for the treatment of any existing stocks of the products listed in Table 1A of Unit III.

1. All sale or distribution of existing stocks of methyl bromide products that include soil uses other than uses that meet the definition of a “critical use,” a “quarantine application,” or a “pre-shipment application;” caneberries; fresh market tomatoes grown in California; fresh market peppers grown in California; Vidalia onions grown in Georgia; ginger grown in Hawaii; golf courses and athletic/recreational fields for resurfacing/replanting of turf; and treatment of tobacco seedling trays is prohibited after publication of the cancellation order, unless that sale or distribution is solely for the purpose of facilitating disposal or export of the product.

Existing stocks may be used until those stocks are exhausted, provided that such use complies with the EPA-approved label and labeling of the product.

2. Existing stocks of methyl bromide products that include the non-CUE/QPS use on fresh market tomatoes (CA), fresh market peppers (CA), Vidalia onions (GA), and ginger (HI) may be sold and distributed for 120 days after the effective date of cancellation (i.e., 120 days after December 31, 2012); and users may continue to use Existing Stocks of such products for production of fresh market tomatoes (CA), fresh market peppers (CA), Vidalia onions (GA), and ginger (HI) until those Existing Stocks are exhausted, provided that no later than August 31, 2012, each Registrant has submitted for each of the Registrant's products labeled for the fresh market tomatoes (CA), fresh market peppers (CA), Vidalia onions (GA), and ginger (HI) uses, an application for amended registration to revise the approved labeling for those products to delete any language allowing use of the product for any of those uses. For any product that does not meet this condition, EPA may issue an amended order that prohibits sale and distribution and use of Existing Stocks as of the effective date of cancellation.

3. Existing Stocks of methyl bromide products that include the non CUE/QPS use on golf courses and athletic/recreational fields uses may be sold and distributed for 120 days after the effective date of cancellation (i.e., 120 days after December 31, 2013); and users may continue to use Existing Stocks of such products for resurfacing/replanting turf and sod on golf courses and athletic/recreational fields until those Existing Stocks are exhausted, provided that no later than August 31, 2013, each Registrant has submitted for each of the Registrant's products labeled for the golf course and athletic/recreational field uses, an application for amended registration to revise the approved labeling for those products to delete any language allowing use of the product for any of those uses. For any product that does not meet this condition, EPA may issue an amended order that prohibits sale and distribution and use of Existing Stocks as of the effective date of cancellation.

4. Existing Stocks of methyl bromide products that include the non-CUE/QPS use on caneberry or tobacco seedling tray uses may be sold and distributed for 120 days after the effective date of cancellation (i.e., 120 days after December 31, 2014); and users may continue to use Existing Stocks of such products on the caneberry and tobacco seedling tray uses until those Existing Stocks are exhausted, provided that no later than August 31, 2014, each Registrant has submitted for each of the Registrant's products labeled for the caneberry or tobacco seedling tray uses, an application for amended registration to revise the approved labeling for those products to delete any language allowing use of the product for any of those uses. For any product that does not meet this condition, EPA may issue an amended order that prohibits sale and distribution and use of Existing Stocks as of the effective date of cancellation.

B. For The Product Listed in Table 1B in Unit III

In any order issued in response to this request for an amendment to delete uses, EPA proposes to include the following provisions for the treatment of any existing stocks of the product listed in Table 1B of Unit III.

All sale or distribution by the registrant of existing stocks is prohibited after publication of the cancellation order, unless that sale or distribution is solely for the purpose of facilitating disposal or export of the product.

Existing stocks may be sold and distributed by persons other than the registrant for 6 months from the date of the cancellation order.

Existing stocks may be used until those stocks are exhausted, provided that such use complies with the EPA-approved label and labeling of the product.

List of Subjects

Environmental protection, Pesticides and pests.

Dated: January 11, 2011.
Richard P. Keigwin, Jr.,
Director, Pesticide Re-evaluation Division, Office of Pesticide Programs.

[FR Doc. 2011-2872 Filed 2-8-11; 8:45 am]

BILLING CODE 6560-50-P